DEPARTMENT OF HEALTH AND HUMAN SERVICES

Centers for Disease Control and Prevention

[Docket Number NIOSH-245]

Request for Public Comment on Draft Document: “Criteria for a Recommended Standard: Occupational Exposure to Diacetyl and 2,3-pentanedione”; Extension of Comment Period

AGENCY: National Institute for Occupational Safety and Health (NIOSH) of the Centers for Disease Control and Prevention (CDC), Department of Health and Human Services (HHS).

ACTION: Notice and extension of public comment period.

SUMMARY: The National Institute for Occupational Safety and Health (NIOSH) of the Centers for Disease Control and Prevention (CDC) is extending to November 18, 2011, the comment period for the notice that appeared in the Federal Register of July 25, 2011 (76 FR 44338-44339). In the Notice, NIOSH announced its intent to hold a public meeting to discuss and obtain comments on the draft document, “Criteria for a Recommended Standard: Occupational Exposure to Diacetyl and 2,3-pentanedione” with a comment period ending on October 14, 2011. A copy of the draft document was posted on the Internet at: http://www.cdc.gov/niosh/docket/review/docket245/ for Docket number NIOSH-245. The agency is extending the comment period in response to requests for extensions to permit the public more time to gather and submit information.

Table of Contents

• Dates

• Addresses

• For Further Information Contact

DATES: Written comments on the document will be accepted until November 18, 2011.

ADDRESSES: All material submitted to NIOSH should reference Docket Number NIOSH-245. All electronic comments should be formatted as Microsoft Word or PDF files and make reference to Docket Number NIOSH-245. To submit comments, please use one of these options:

• Send NIOSH comments using the online form at http://www.cdc.gov/niosh/docket/review/docket245/comments.html.

• Email: nioshdocket@cdc.gov.

• Facsimile: (513) 533-8285.

• Mail: NIOSH Docket Office, Robert A. Taft Laboratories, MS-C34, 4676 Columbia Parkway, Cincinnati, OH 45226.

All information received in response to this notice will be available for public examination and copying at the NIOSH Docket Office, 4676 Columbia Parkway, Room 111, Cincinnati, Ohio 45226. A complete electronic docket containing all comments submitted will be available on the NIOSH docket home page at http://www.cdc.gov/niosh/docket/archive/docket245.html and comments will be available in writing by request. NIOSH includes all comments received without change in the docket, including any personal information provided.

FOR FURTHER INFORMATION CONTACT: Lauralynn Taylor McKernan, ScD, CIH, NIOSH, 4676 Columbia Parkway, MS-C32, Cincinnati, OH 45226, telephone (513) 533-8542, fax (513) 533-8230, Email LMcKernan@cdc.gov.

Dated: October 12, 2011.
John Howard,
Director, National Institute for Occupational Safety and Health, Centers for Disease Control and Prevention.

[FR Doc. 2011-26870 Filed 10-17-11; 8:45 am]

BILLING CODE 4163-19-P